DEPARTMENT OF THE INTERIOR

Bureau of Land Management

[LLORW00000.223L1109AF.L17110000.AL0000.241A.HAG22-0005]

Call for Nominations to the San Juan Islands National Monument Advisory Committee, Washington

AGENCY: Bureau of Land Management, Interior.

ACTION: Notice of call for nominations.

SUMMARY: The purpose of this notice is to request public nominations to the Bureau of Land Management's (BLM) San Juan Islands National Monument Advisory Committee (MAC). This citizen-based committee advises the Secretary of the Interior with respect to the preparation and implementation of the San Juan Islands National Monument Management Plan.

DATES: All nominations must be received no later than January 10, 2022.

ADDRESSES: Nominations and completed applications should be sent to the BLM, Spokane District Office, 1103 N Fancher Road, Spokane, WA 99212.

FOR FURTHER INFORMATION CONTACT: Jeff Clark, Spokane District Public Affairs Officer, telephone: (509) 536-1297, or email: jeffclark@blm.gov. Persons who use a telecommunications device for the deaf (TDD) may call the Federal Relay Service (FRS) at (800) 877-8339 to contact Mr. Clark during normal business hours. The FRS is available 24 hours a day, 7 days a week, to leave a message or question. You will receive a reply during normal business hours.

SUPPLEMENTARY INFORMATION: The MAC was established pursuant to the Presidential Proclamation “Establishment of the San Juan Islands National Monument” (March 25, 2013) and is consistent with section 309 of the Federal Land Policy and Management Act, as amended (FLPMA) (43 U.S.C. 1739). FLPMA directs the Secretary of the Interior to involve the public in planning and issues related to management of lands administered by the BLM. The rules governing BLM advisory committees are found at 43 CFR subpart 1784.

The San Juan Islands MAC is comprised of 12 members representing a wide array of interests, including recreation, tribal, and education, as well as environmental organizations and landowners. The MAC is currently seeking nominations for the following positions that are or will become vacant:

• Two representatives of recreation and tourism interests;

• A representative of cultural and heritage interests; and

• A representative of education and interpretation interests.

Individuals may nominate themselves or others for appointment by the Secretary. The BLM will evaluate nominees based on their education, training, experience, and knowledge of the geographic area of the MAC. Nominees must be residents of the State of Washington and should demonstrate a commitment to collaborative resource decision-making.

The following must accompany all nominations:

—A completed application, which can be obtained through the nominee's local BLM office or online at: https://www.blm.gov/sites/blm.gov/files/1120-019_0.pdf. Nominees should note the interest area(s) they are applying to represent on their application.

—Letters of reference from represented interests or organizations; and

—Any other information that addresses the nominee's qualifications.

Before including any address, phone number, email address, or other personal identifying information in the application, nominees should be aware this information may be made publicly available at any time. While the nominee can ask to withhold the personal identifying information from public review, the BLM cannot guarantee that it will be able to do so.

(Authority: 43 CFR 1784.4-1)

Kurt Pindel,
Spokane District Manager.

[FR Doc. 2021-26770 Filed 12-9-21; 8:45 am]

BILLING CODE 4310-84-P